NUCLEAR REGULATORY COMMISSION

[Docket No. 70-27 EA; ASLBP No. 10-902-01-EA-BD01]

Babcock & Wilcox Nuclear Operations Group, Inc.; Establishment of Atomic Safety and Licensing Board

Pursuant to delegation by the Commission dated December 29, 1972 (37 FR 28710), and the Commission's regulations, see 10 CFR 2.106, 2.300, 2.313(a), and 2.318, notice is hereby given that an Atomic Safety and Licensing Board (Board) is being established to preside over the following proceeding:

Babcock & Wilcox Nuclear Operations Group, Inc. (Lynchburg, VA Facility).

This proceeding concerns an Order Imposing Civil Monetary Penalty served upon the Licensee, Babcock & Wilcox Nuclear Operations Group, Inc., on February 23, 2010. Pursuant to a Request for Hearing published in the Federal Register (74 FR 75 35846) dated June 23, 2010, the Licensee, represented by Morgan, Lewis & Bockius LLP, submitted a Request for Hearing on July 27, 2010.

The Board is comprised of the following administrative judges:

Alan S. Rosenthal, Chair, Atomic Safety and Licensing Board Panel, U.S. Nuclear Regulatory Commission, Washington, DC 20555-0001.

E. Roy Hawkens, Atomic Safety and Licensing Board Panel, U.S. Nuclear Regulatory Commission, Washington, DC 20555-0001.

Nicholas Tsoulfanidis, Atomic Safety and Licensing Board Panel, U.S. Nuclear Regulatory Commission, Washington, DC 20555-0001.

All correspondence, documents, and other materials shall be filed in accordance with the NRC E-Filing Rule, which the NRC promulgated in August 2007 (72 FR 49139).

Issued at Rockville, Maryland, this 6th day of August 2010.
E. Roy Hawkens,
Chief Administrative Judge, Atomic Safety and Licensing Board Panel.

[FR Doc. 2010-20171 Filed 8-13-10; 8:45 am]

BILLING CODE 7590-01-P